DEPARTMENT OF HEALTH AND HUMAN SERVICES

Centers for Disease Control and Prevention

[30Day-12-12HN]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-7570 or send an email to omb@cdc.gov. Send written comments to CDC Desk Officer, Office of Management and Budget, Washington, DC or by fax to (202) 395-5806. Written comments should be received within 30 days of this notice.

Proposed Project

Evaluation of U.S. Family Planning Guidelines-Phase II—New—National Center for Chronic Disease Prevention and Health Promotion (NCCDPHP), Centers for Disease Control and Prevention (CDC).

Background and Brief Description

The Centers for Disease Control and Prevention's (CDC) Division of Reproductive Health (DRH), in collaboration with the Office of Population Affairs (OPA), plans to conduct an evaluation of the diffusion, utilization of, and impact on provider- and health center-level attitudes and practices of three national guidance documents intended to improve contraceptive use and the delivery of quality family planning services in the United States. The purpose of this information collection is to evaluate the adoption and implementation of recommendations included in the U.S. Medical Eligibility Criteria for Contraceptive Use, approximately two and a half years after its release, and to collect baseline information on selected attitudes and practices that will be addressed in the forthcoming U.S. Selected Practice Recommendations for Contraceptive Use (U.S. SPR) and the forthcoming Guidance for Providing Quality Family Planning Services (QFPS). The information to be collected will also allow CDC and OPA to improve family planning-related public health practice, as CDC and OPA will tailor future dissemination activities, and develop needed provider tools, based upon the results. CDC and OPA will consider conducting a follow-up information collection approximately three years after the release of the forthcoming U.S. SPR and QFPS.

CDC and OPA will administer a mailed survey to 10,000 private- and public-sector family planning providers and health center administrators in the United States, including: (a) 2,000 private-sector office-based physicians (i.e., those specializing in obstetrics/gynecology, family medicine, and adolescent medicine); (b) 2,000 public-sector providers from Title X clinics; (c) 2,000 public-sector providers from non-Title X clinics; (d) 2,000 public-sector health center administrators from Title X clinics; and (e) 2,000 public-sector health center administrators from non-Title X clinics. Private-sector physicians will be sampled from the American Medical Association Physician Masterfile. Public-sector providers and health center administrators will be reached by sampling health centers from the Guttmacher Institute Database of Publicly-Funded Family Planning Health Centers.

Each sampled physician and health center will receive a mailed survey package. For private-sector physicians, each mailed survey package will include a single survey to be completed by the physician. For public-sector health centers, each mailed survey package will include two surveys—one to be completed by a family planning provider at the health center, and the second to be completed by the health center administrator. Each survey will be accompanied by a postage-paid return envelope. Individuals will also be given the option to complete the survey online via a password protected web-based data collection system. Participation in the survey will be completely voluntary. OMB approval is requested for one year.

There are no costs to respondents other than their time. The total estimated burden hours are 4,166.

Estimated Annualized Burden Hours
Type of respondent | Form name | Number of respondents | Number of responses per respondent | Average burden per response (in hours)
Office-based physicians (private sector) | 2012-2012 Survey of Health Care Providers | 2,000 | 1 | 15/60
Title X clinic providers (public sector) | 2012-2012 Survey of Health Care Providers | 2,000 | 1 | 15/60
Non-Title X clinic providers (public sector) | 2012-2012 Survey of Health Care Providers | 2,000 | 1 | 15/60
Title X clinic administrators (public sector) | 2012-2013 Survey of Administrators of Publicly-Funded Health Centers that Provide Family Planning Services | 2,000 | 1 | 40/60
Non-Title X clinic administrators (public sector) | 2012-2013 Survey of Administrators of Publicly-Funded Health Centers that Provide Family Planning Services | 2,000 | 1 | 40/60

Dated: August 16, 2012.
Ron A. Otten,
Director, Office of Scientific Integrity (OSI), Office of the Associate Director for Science (OADS), Office of the Director, Centers for Disease Control and Prevention.

[FR Doc. 2012-20620 Filed 8-21-12; 8:45 am]

BILLING CODE 4163-18-P